DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 3, 2005.

Interested persons are invited to submit written comments regarding the subject matter of the investigations to the Director, Division of Trade Adjustment Assistance, at the address shown below, not later than February 3, 2005.

The petitions filed in this case are available for inspection at the Office of the Director, Division of Trade Adjustment Assistance, Employment and Training Administration, U.S. Department of Labor, Room C-5311, 200 Constitution Avenue, NW., Washington, DC 20210.

Signed at Washington, DC, this 12th day of January, 2005.
Timothy Sullivan,
Director, Division of Trade Adjustment Assistance.

Appendix—TAA Petitions Instituted Between 12/13/04 and 12/29/04

TA-W | Subject firm (petitioners) | Location | Date of institution | Date of petition
56198 | Specialty Electronics, Inc. (Comp) | Landrum, SC | 12/13/04 | 12/10/04
56199 | Tinnin Garment (UNITE) | Fredericktown, MO | 12/13/04 | 12/13/04
56200 | Multi-Plastics (Wkrs) | Saegertown, PA | 12/13/04 | 12/13/04
56201 | Ruffin Mold and Machine (State) | Benton, AR | 12/13/04 | 12/10/04
56202 | Metolius Mountain Products, Inc. (Comp) | Bend, OR | 12/13/04 | 12/10/04
56203 | Metalforming Technologies, Inc. (Comp) | Burton, MI | 12/13/04 | 12/09/04
56204 | Teleflex Automotive Group (Comp) | Lebanon, VA | 12/13/04 | 12/08/04
56205 | France, A Scott Fetzer Co. (Wkrs) | Fairview, TN | 12/13/04 | 12/07/04
56206 | Essilor of America (Wkrs) | St. Petersburg, FL | 12/13/04 | 12/06/04
56207 | Beverage-Air (Comp) | Abbeville, SC | 12/13/04 | 12/08/04
56208 | Federal-Mogul (Comp) | Michigan City, IN | 12/13/04 | 11/18/04
56209 | Rocket Sales, Inc. (Comp) | Ridgewood, NY | 12/14/04 | 11/29/04
56210 | Monroe Salt Works (Comp) | Monroe, ME | 12/14/04 | 12/07/04
56211 | Silkworm, Inc. (Wkrs) | Andrews, SC | 12/14/04 | 12/13/04
56212A | Keystone Restyling Products (Comp) | Toledo, OH | 12/14/04 | 12/07/04
56212 | Keystone Restyling Products (Comp) | Toledo, OH | 12/14/04 | 12/07/04
56213 | BMC Holdings, Inc. (Comp) | Beaumont, TX | 12/14/04 | 11/30/04
56214 | Pfaltzgraff (Comp) | York, PA | 12/14/04 | 12/08/04
56215 | Bendix CVS. LLC (PACE) | Frankfort, KY | 12/14/04 | 12/03/04
56216 | Riley Creek Moyie (Wkrs) | Moyie Springs, ID | 12/14/04 | 11/22/04
56217 | Kyocera Wireless Corp. (Comp) | San Diego, CA | 12/15/04 | 12/12/04
56218 | Lionbridge (Wkrs) | Boise, ID | 12/15/04 | 12/08/04
56219 | International Textile Group (Comp) | Reidsville, NC | 12/15/04 | 12/01/04
56220 | ITW Shakeproof (Comp) | Guttenberg, IA | 12/15/04 | 12/14/04
56221 | Tien-Hu Knitting Co., Inc (Wkrs) | Oakland, CA | 12/16/04 | 12/07/04
56222 | Dana Undies (State) | Colquitt, GA | 12/16/04 | 12/13/04
56223 | Iomega Corp. (Wkrs) | Roy, UT | 12/16/04 | 12/16/04
56224 | Sanmina-SCI (State) | Fremont, CA | 12/16/04 | 11/18/04
56225 | Beverly Creations, Inc. (Comp) | New York, NY | 12/16/04 | 12/16/04
56226 | Phonak (State) | Rochester, MN | 12/16/04 | 12/15/04
56227 | Kraft Nabisco (State) | Buena Park, CA | 12/16/04 | 12/15/04
56228 | Hale Products, Inc. (USWA) | Conshohocken, PA | 12/17/04 | 12/16/04
56229 | Armstrong Wood Products (State) | Kensett, AR | 12/17/04 | 12/16/04
56230 | Spang and Company (Comp) | E. Butler, PA | 12/17/04 | 12/16/04
56231 | New DHC (State) | Machiasport, ME | 12/21/04 | 12/20/04
56232 | CRH Catering Co., Inc. (Comp) | Connellsville, PA | 12/21/04 | 12/16/04
56233 | Celestica, Inc. (State) | San Jose, CA | 12/21/04 | 12/06/04
56234 | ALT Sportswear, Inc. (Wkrs) | New York, NY | 12/21/04 | 12/14/04
56235 | J and G Sewing Co., Inc. (Wkrs) | San Francisco, CA | 12/21/04 | 12/18/04
56236 | Potlatch Corp. (Wkrs) | Cloquet, MN | 12/21/04 | 12/03/04
56237 | Tietex International (Wkrs) | Spartanburg, SC | 12/21/04 | 12/08/04
56238 | WestPoint Stevens Factory Stores (Wkrs) | Myrtle Beach, SC | 12/21/04 | 12/16/04
56239 | Gasque Plumbing (Wkrs) | Myrtle Beach, SC | 12/22/04 | 12/20/04
56240 | Dorby Frocks (UNITE) | New York, NY | 12/22/04 | 12/06/04
56241 | Kleen-Tex (Wkrs) | LaGrange, GA | 12/22/04 | 12/20/04
56242 | Lexington Precision Corp. (State) | LaGrange, GA | 12/22/04 | 12/20/04
56243 | Hoffman Mills, Inc. (Comp) | Shippensburg, PA | 12/22/04 | 12/16/04
56244 | Children's Group, Inc. (Wkrs) | Viroqua, WI | 12/22/04 | 12/16/04
56245 | Randstad North America (State) | Cornelia, GA | 12/22/04 | 12/20/04
56246 | Glastic Molding, LLC (IUE) | Jefferson, OH | 12/27/04 | 12/17/04
56247 | Horse Closet (The) (State) | Williamsport, PA | 12/27/04 | 12/21/04
56248 | Lear Corp. (UNITE) | Carlisle, PA | 12/27/04 | 12/20/04
56249 | Spinnerin Dye LLC (State) | S. Hackensack, NJ | 12/27/04 | 12/21/04
56250 | Bruner Ivory Handle Co. (State) | Hope, AR | 12/27/04 | 12/21/04
56251 | Hurd Millwork (MCIW) | Merrill, WI | 12/27/04 | 12/21/04
56252 | Boise Paper Solutions (State) | International Falls, MN | 12/27/04 | 12/21/04
56253 | R.G. Barry Corp. (Comp) | San Angelo, TX | 12/27/04 | 12/06/04
56254 | Textron Fastening Systems (UAW) | Warren, MI | 12/27/04 | 12/20/04
56255 | Liz Claiborne (State) | North Bergen, NJ | 12/28/04 | 12/22/04
56256 | Rehau, Inc. (Comp) | Sturgis, MI | 12/28/04 | 12/22/04
56257 | Ames True Temper (USWA) | Parkersburg, WV | 12/28/04 | 12/21/04
56258 | Collins and Aikman (Wkrs) | Roxboro, NC | 12/28/04 | 12/13/04
56259 | Menasha Display (State) | Mequon, WI | 12/28/04 | 12/10/04
56260 | Wheatland Tube Co. (USWA) | Sharon, PA | 12/28/04 | 12/17/04
56261 | TAC Apparel, Inc. (State) | Weston, FL | 12/28/04 | 12/12/04
56262 | Hawk Motors (Wkrs) | Alton, IL | 12/28/04 | 12/27/04
56263 | Mount Vernon Mills, Inc. (Comp) | Johnston, SC | 12/28/04 | 12/23/04
56264 | Sanmina-SCI (Wkrs) | Pleasant Prairie, WI | 12/28/04 | 12/20/04
56265 | Fypon, Ltd. (Comp) | Stewartstown, PA | 12/29/04 | 12/28/04
56266 | Louisville Bedding Co. (Comp) | Louisville, KY | 12/29/04 | 12/28/04
56267 | Woodsocket Spinning/Amicale of NC (Wkrs) | Charlotte, NC | 12/29/04 | 12/28/04

[FR Doc. E5-245 Filed 1-21-05; 8:45 am]

BILLING CODE 4510-30-P